DEPARTMENT OF HEALTH AND HUMAN SERVICES

Office of the Secretary, Assistant Secretary for Planning and Evaluation; Notice Inviting Applications for New Award for Fiscal Year 2001

AGENCY: Office of the Assistant Secretary for Planning and Evaluation (ASPE), HHS.

ACTION: Announcement of the availability of funds and request for applications from states and large counties for cooperative agreements to study the characteristics of persons receiving cash assistance from the Temporary Assistance to Needy Families (TANF) program.

SUMMARY: The Office of the Assistant Secretary for Planning and Evaluation (ASPE) announces the availability of funds and invites applications for cooperative agreements to conduct research into the characteristics of individuals who receive cash assistance from the Temporary Assistance to Needy Families (TANF) program. Approximately four to five states or large counties will receive funding under a cooperative agreement that will enable them to monitor and conduct research into the characteristics of current TANF recipients and their families. Topics relevant to these studies fall into several interrelated categories: (1) Demographic characteristics of the caseload; (2) employment and economic outcomes of the caseload; and (3) barriers to employment. ASPE is particularly interested in assisting state and local efforts to study their TANF recipients' potential barriers and opportunities for obtaining employment and achieving self-sufficiency using survey data analysis enriched with administrative data. Given the nature of the research involved, competition is open only to state agencies that administer TANF programs and to counties with total populations greater than 500,000 that administer TANF programs.

Cooperative Agreements are assistance mechanisms and subject to the same administrative requirements as grants; however, they are different from either a grant or a contract. Cooperative Agreements allow more involvement and collaboration by the government in the affairs of the project compared to a grant, but provide less direction of project activities than a contract. The Terms of Award are in addition to not in lieu of otherwise applicable guidelines and procedures.

Closing Date: The deadline for submission of applications under this announcement is June 18, 2001.

ADDRESSES: Application instructions and forms should be requested from and submitted to: Adrienne Little, Grants Officer, Office of the Assistant Secretary for Planning and Evaluation, Department of Health and Human Services, Room 405F, Hubert H. Humphrey Building, 200 Independence Avenue, SW, Washington, DC 20201. Telephone: (202) 690-8794. Requests for forms and administrative questions will be accepted and responded to up to ten (10) working days prior to the closing date.

Copies of this program announcement and many of the required forms may also be obtained electronically at the ASPE World Wide Web Page: http://aspe.hhs.gov. You may fax your request to the attention of the Grants Officer at (202) 690-6518. Applications may not be faxed or submitted electronically.

The printed Federal Register notice is the only official program announcement. Although reasonable efforts are taken to assure that the files on the ASPE World Wide Web Page containing electronic copies of this program announcement are accurate and complete, they are provided for information only. The applicant bears sole responsibility to assure that the copy downloaded and/or printed from any other source is accurate and complete.

FOR FURTHER INFORMATION CONTACT: Administrative questions should be directed to the Grants Officer at the address or phone number listed above. Programmatic/technical questions should be directed to Susan Hauan, Office of the Assistant Secretary for Planning and Evaluation, Department of Health and Human Services, Room 404E, Hubert H. Humphrey Building, 200 Independence Avenue, SW, Washington, DC 20201. Telephone: (202) 690-8698. Questions may be faxed to (202) 690-6562 or e-mailed to shauan@osaspe.dhhs.gov.

Part I. Supplemental Information

Legislative Authority

This cooperative agreement is authorized by section 1110 of the Social Security Act (42 U.S.C. 1310) and awards will be made from funds appropriated under the Departments of Labor, Health and Human Services, and Education, and Related Agencies Appropriations Act, 2001, as enacted by section 1000(a)(4) of the Consolidated Appropriations Act, 2001 (Pub. L. 106-554).

Eligible Applicants

Given the nature of the research involved, competition is open only to state agencies that administer TANF programs and to counties with total populations greater than 500,000 that administer TANF programs. Consortia of states and counties are also encouraged to apply, as long as their combined total populations exceed 500,000 and a single agency is identified as the lead to handle grant funds and sub-granting. Public or private nonprofit organizations, including universities and other institutions of higher education, may collaborate with states in submitting an application, but the principal grantee will be a state or county. Private for-profit organizations may also apply jointly with states or counties, with the recognition that grant funds may not be paid as profit to any recipient of a grant or subgrant.

The Code of Federal Regulations, Title 45, Part 92 defines a state as: “Any of the several states of the United States, the District of Columbia, the Commonwealth of Puerto Rico, any territory or possession of the United States, or any agency or instrumentality of a State exclusive of local governments. The term does not include any public and Indian housing agency under United States Housing Act of 1937.”

Available Funds

Approximately $1,000,000 is available from ASPE, in funds appropriated for fiscal year 2001. ASPE anticipates providing approximately four to five awards of between $200,000 and $250,000 each. If additional funding becomes available in fiscal year 2002, additional projects may be funded or some projects may receive second-year non-competing continuation funding. However, applications for funding under this announcement should describe projects that can be completely carried out with fiscal year 2001 funding at the above anticipated level.

Use of Funds

No federal funds received as a result of this announcement can be used to purchase computer equipment and no funds may be paid to grantees or sub-grantees as profit, i.e., any amount in excess of allowable direct and indirect costs of the recipient (45 CFR 74.81). Our intent is to sponsor state and local survey data collection efforts and administrative data linking and analysis, and grant funds awarded may not be used to pay for assistance programs or the provision of services.

Grantees must provide a minimum of 5 percent of the total approved cost of the project. The total approved cost of the project is the sum of the federal share and the non-federal share. Thus, a project with a total budget of $200,000 must include a match of at least $10,000 and would imply a request for federal funds of no more than $190,000. The non-federal share may be met by cash or in-kind contributions, although applicants are encouraged to meet their match requirements through cash contributions.

If a study has approved funding from other funding sources, the amount, duration, purpose, and source of the funds should be indicated in materials submitted under this announcement. If completion of the proposed study is contingent upon approval of funding from other sources, the relationship between the funds being sought elsewhere and from ASPE should be discussed in the budget information submitted as part of the application. In both cases, the contribution that ASPE funds will make to the project should be clearly presented.

Background

Welfare caseloads have declined precipitously in recent years. Since January 1993, the number of people receiving welfare benefits has fallen from 14.1 million to 5.8 million recipients, a reduction of nearly 60 percent. This decline is attributable to several factors, including the provisions of the Personal Responsibility and Work Opportunity Reconciliation Act of 1996 (Pub. L. 104-193) and the strong economy. In response to the demand from the public and policymakers, many studies to date address the circumstances of individuals who have left welfare or who applied and were formally or informally diverted from welfare. Fewer studies focus on the status of current TANF recipients. Questions have been raised, however, about who is staying on welfare. How many of the individuals on welfare are “hard-to-employ” or more disadvantaged? How many are at high risk of reaching time limits? What services do recipients need to make the transition to work and success in the labor market? This information is of great interest to policymakers and administrators trying to adapt work programs to serve those remaining on the caseload better. Long-term recipients and those close to reaching time limits are of particular interest.

ASPE is interested in funding studies under this announcement that address the characteristics and circumstances of individuals and families receiving cash assistance from the TANF program at a given point in time. TANF administrative records are an important source of data on the caseload. These administrative records provide valuable data on the characteristics of the TANF caseload; however, the picture they provide is incomplete. These state and county studies on the TANF caseload will help enrich our understanding of the characteristics of TANF recipients.

The studies funded under this announcement continue ASPE's partnership with states and counties in building data infrastructure and, as such, build closely on many previous ASPE-sponsored research projects to study the outcomes of welfare reform. These include projects involving administrative data linking and several earlier rounds of grants to states and large counties.

For the past three years, the Department has received policy research funds targeted by Congressional appropriators to support studies of the outcomes of welfare reform. Additional funds were also included in the fiscal year 2001 appropriation. Projects funded in fiscal years 1998, 1999, and 2000 include studies that measure outcomes for a broad population of low-income families and measure family hardship and well-being, including the utilization of other support programs. A large portion of the welfare outcome funds has been spent on competitive grants to states and large counties to study families leaving welfare, as well as those who have been diverted (formally and informally) from welfare receipt. Based on both linked administrative data and survey data, these projects provide valuable data on welfare outcomes from a variety of perspectives. Additional information on ASPE-funded welfare outcomes studies can be found on the ASPE web site at: http://aspe.os.dhhs.gov/hsp/leavers99/index.htm.

As findings from these studies continue to emerge, forming a valuable knowledge base around welfare outcomes for families who leave welfare, it is appropriate to expand our understanding of the characteristics of current TANF recipients. Current recipients include both those who entered the program recently as well as those who have received welfare cash assistance over a longer period of time. The policy community is particularly interested in understanding the personal, family, and community-level barriers current recipients may face, as well as specific characteristics and skills that may provide opportunities for employment and future self-sufficiency.

There have been several successful efforts to measure the characteristics of welfare recipients beyond demographics. For example, both Missouri and Nebraska are using telephone interviews to collect data on barriers to employment among current and former welfare recipients. The National Survey of America's Families is another example of a telephone survey that includes questions on a variety of potential barriers to employment including mental health. The Women's Employment Survey collects a rich set of in-person interview data on the characteristics of current and former welfare recipients, including domestic violence and substance abuse, in one Michigan County, and CalWORKS Needs Assessment examines health-related and other barriers to self-sufficiency in Alameda County, California. In March 2001, a workshop sponsored by ASPE and co-organized with Sheldon Danziger, principal investigator for the Women's Employment Survey, explored the use of measures in a telephone survey to capture such potential barriers as domestic violence, mental health, physical health, and substance use and abuse.

Based on studies to date, it is clear that the information required to understand the detailed characteristics and circumstances of this population is not available in administrative data sources. Hence, survey data methods are needed for these state and county-level TANF caseload projects.

Part II. Purpose and Responsibilities

Purpose

The purpose of this announcement is to partner with states and large counties through cooperative agreements to support their research efforts on the characteristics and circumstances of current Temporary Assistance to Needy Families (TANF) recipients. ASPE is committed to using the research funds appropriated by Congress to help build state and local capacity to conduct studies of the outcomes of welfare reform. Through these cooperative agreements, ASPE hopes to support state and local efforts to gather a variety of information about the above individuals and their families, including their demographic characteristics, employment and economic circumstances, and potential personal, family and community-level barriers to employment and economic self-sufficiency. Again, while TANF administrative records include basic data on TANF recipient characteristics, they do not provide sufficiently detailed information on recipient needs, barriers to work, and outcomes.

This research will allow states and large counties to learn about the characteristics of families who receive TANF cash assistance at a given point in time. What are the characteristics of recipients and their families? What are the characteristics of employed recipients? What types of barriers do recipients face and how do these barriers differ between working and non-working recipients? How are such families faring in terms of economic and non-economic family well-being?

While applicants have the flexibility to define their specific study population, states' and localities' understanding of their own caseloads as well as a broader understanding of the circumstances of the TANF population as a whole, is achieved best with some cross-state comparability. The National Academy of Sciences has also indicated that increased comparability across state and local area welfare studies is needed for providing the most useful knowledge to the wider research and policy community and should be a high priority. To achieve cross-study comparability it is preferred that the study populations identified include all single-parent families receiving TANF cash assistance at a given point in time. This preferred study population would include child-only cases where a single parent is present in the household. To meet state-specific policy and research needs, states and counties may also choose to stratify their samples of the study population and/or to broaden their study populations to include additional TANF cash recipients (e.g., two-parent cases, all child-only cases) or recipients of other forms of TANF assistance in the same month.

Applicants are encouraged to propose to draw their sample cohorts of TANF recipients from their TANF administrative data files so as to minimize the amount of time between sample identification and the desired timing for survey implementation. This would maximize the number of survey respondents still receiving TANF at the time of the interview.

Based on prior work, telephone survey instruments have been developed to address this population. ASPE will provide these instruments to the grantees and will work closely with them to finalize a data collection instrument. Grantees will have the opportunity to include questions that meet their own state-specific research and policy needs. It is anticipated that the total time to administer the survey instrument will be approximately 30-40 minutes over the telephone. Applicants should assume a survey instrument will be completed and cleared by the Office of Management and Budget (OMB) by March 2002.

Applicants may propose to draw stratified samples based on subgroups of particular interest to ensure sufficient sample size for analysis. For example, states may want to stratify their samples of single-parent recipients based on length of the current welfare spell or other spell dynamics. Using administrative data on months of past welfare receipt, a grantee could oversample long-term recipients (e.g., recipients for 24 or more months) or “cyclers” (e.g., recipients with multiple spells over a given time period). Grantees may also choose to stratify their samples and conduct subgroup analyses based on state-specific policy interests such as teen parents, immigrants, non-employed recipients, sanctioned recipients, recipients who are close to reaching time limits, or other special populations (e.g., the disabled, those with substance abuse problems). Subgroup comparisons across other characteristics, including race, age and geographic area (including urban/rural) are also encouraged. While ASPE understands that grantees will vary in the types of subgroup analyses that are of interest and that can be conducted, where possible ASPE will work closely with individual grantees to develop common definitions of subgroups across studies (e.g., long-term recipients).

Grantees are also encouraged to augment their survey data with administrative records to capture welfare and work histories. For example, projects could include retrospective data on prior welfare receipt and could continue to track welfare participation data post-interview. These individual records drawn from state TANF data files should be linked with the survey data collected. This combination of survey and administrative data will provide analysts with answers to a wider range of questions than would be possible with only one type of data.

Applicants for the ASPE cooperative agreements may propose to augment their analyses with administrative data from additional programs. For example, some states or localities may choose to look at linked administrative data on TANF and child welfare to address the characteristics of the caseload vis a vis contacts with the child welfare system. Grantees could also choose to examine linked administrative data on earnings (using Unemployment Insurance records) and on participation in multiple public programs (e.g., TANF, Medicaid, the Food Stamp Program, and child care) in an effort to understand work and program histories as well as post-interview employment and program participation.

ASPE is interested in funding state and local area studies that examine the interrelationships of demographic characteristics, employment and economic outcomes, and potential barriers to employment and self-sufficiency for a sample of current recipients, with subgroup analyses proposed by the applicants. Below is a list of general topics and some examples of specific items states and localities may want to include in these studies. It is not meant to be exhaustive of all topics that may be included in each individual grantee's study. We encourage applicants to indicate particular topics from the list below that represent the most important data needs for their state or county. In addition, if prospective applicants have additional topics and survey questions they feel are relevant to their own state-specific information needs, they are encouraged to raise these survey topics and the associated questions they wish to answer in their applications. Indication of topics and survey questions by applicants will aid in the background preparation of survey questions to be cleared by the Office of Management and Budget by March 2002.

Anticipated topics fall into three interrelated categories: (1) Demographic characteristics of the caseload; (2) employment and economic outcomes of recipients; and (3) barriers to employment and self-sufficiency.

1. Demographic Characteristics of the Caseload: Age (of recipient, children), race/ethnic background, marital status, number of children, educational attainment, household composition, pregnancies and births, and living arrangements (including family and child moves).

2. Employment and Economic Outcomes of Recipients: Employment status, reasons not working, participation in work programs and job skills training, utilization of job search services and/or basic work orientation services, earnings, income, child support payments.

3. Potential Barriers to Employment and Self-Sufficiency. Personal Barriers: Very low education levels, few job skills, low levels of prior labor force participation, illiteracy, limited English language fluency, lack of basic work orientation skills (e.g., dress, punctuality, attendance, following instructions), physical and mental health problems and disabilities, substance abuse issues, and criminal records or involvement with the legal system.

Family Barriers: The presence of very young children, presence of children or other family members with disabilities or chronic health problems, problems with child care, domestic violence, and presence of family members with criminal records or involvement with the legal system.

Community Barriers: Poor public transportation, high crime rates, housing problems including lack of affordable housing, inadequate child care availability, inadequate job availability, and inadequate availability of services.

Grantees may also be interested in additional topics such as: utilization of specific state program services, receipt of child care benefits, measures of hardship and family well-being, housing subsidies and housing insecurity, health insecurity, food insecurity, extended family support, or other topics of interest to state and federal policymakers. States and counties should include in their applications any additional survey topics or concepts of interest and the related policy questions these survey items will be used to answer. Applicants are encouraged to include examples of these specific survey questions, if available, in an appendix.

Cooperative Agreement

ASPE will make awards under this announcement using the cooperative agreement mechanism. A cooperative agreement is a legal agreement between the Department of Health and Human Services (DHHS) and the recipient in which DHHS provides financial assistance and substantial federal programmatic involvement with the recipient during the performance of the project. In a cooperative agreement, DHHS and the recipient of federal funds share roles and responsibilities. The following two sections outline the responsibilities of the grantee and DHHS (respectively) in conducting activities to achieve the purpose of this project.

Grantee Responsibilities

1. Prior to completion of final work plans, grantees will take part in an ongoing joint discussion of their proposed study designs, a survey instrument under development, and table shells used for reporting selected results. As part of this early process, a meeting will be held for the grantees and relevant federal personnel in Washington, D.C., to discuss the preliminary methodology and design of the research projects. Grantees should plan to attend this meeting. This ongoing process will allow for knowledge sharing across the various projects, as well as encourage peer-to-peer contacts among the grantees.

2. No later than ninety (90) days after the date of award, the grantee shall submit an outline of progress to date, including efforts to secure subcontractors if applicable, and a final work plan that is based on and updates the work plan submitted in the original application.

3. Grantees should provide concise quarterly progress reports fifteen (15) days after the end of each calendar quarter. The specific format and content for these reports will be provided by the Federal Project Officer.

4. To continue the ongoing discussion of project implementation and results, a second meeting for grantees will be held approximately 11 to 12 months after the start of the grant period. Grantees should plan to attend. The meeting will provide the grantees with an opportunity to continue their joint discussions of survey administration and data analysis, and to share their preliminary project results with other grantees.

5. After completing the full project, grantees should provide ASPE with copies of their own state or county final reports. Grantees should provide at least three (3) copies of their final reports to the Grants Officer before the completion of the project. Grantees should plan to provide one unbound copy, suitable for photocopying; if only one is the original (has the original signature, is attached to a cover letter, etc.), it should not be this copy. State or county final reports should also be provided in electronic form on an IBM PC compatible 3 ½ inch diskette in a word processing format compatible with ASPE software (currently WordPerfect 8).

6. To encourage wider analysis, the grantee is required to make all data available to the research community. To the extent practicable, grantees are encouraged to follow guidance previously developed by a workgroup of grantees on producing and documenting data files (see http://aspe.hhs.gov/hsp/leavers99/datafiles/index.htm for current guidance for fiscal years 1998 to 2000 Welfare Outcomes grantees). The data file and documentation for all survey and administrative data compiled under this effort should be made available for broader distribution to the research community prior to the completion of the project. If the data file has been edited to ensure confidentiality of individuals, the grantee has the option of designating the data file as a public-use data file. If not, the data file should be made available to researchers under restricted-access conditions to ensure confidentiality. Grantees should plan to deposit these databases and documentation in an ASPE-designated central and secure depository. For example, ASPE is working with the fiscal years 1998 to 2000 grantees to place most of their Welfare Outcomes data files at the Research Data Center (RDC) of the National Center for Health Statistics in Hyattsville, Maryland. The RDC controls and monitors access by researchers to guard against breaches of confidentiality; associated costs are not the responsibility of the grantees.

ASPE Responsibilities

1. ASPE shall convene two meetings of grantees, federal personnel, and relevant experts in the areas the grantees choose to address. These meetings will allow for technical assistance and peer-to-peer contacts both before final research design and survey instrument decisions have been made and after the first, preliminary results are available.

2. ASPE shall work with grantees to develop a survey instrument.

3. ASPE shall work with grantees to develop table shells for reporting selected results.

4. ASPE shall provide consultation and technical assistance in the planning and operation of grant activities. This will include working closely with states and localities on the production and documentation of data files.

5. ASPE will work with individual grantees on their data analysis and in preparing any reports and/or publications of the results.

6. ASPE shall assist in information exchange and the dissemination of state and local area reports to appropriate federal, state, and local entities.

7. ASPE shall facilitate arrangements to make data files available to the broader research community under restricted-access conditions to ensure confidentiality. ASPE will designate a central, secure depository for the restricted-access databases that grantees will provide at the end of the grant period.

Part III. Application Preparation and Evaluation Criteria

This section contains information on the preparation of applications for submission under this announcement, the forms necessary for submission, and the evaluation criteria under which the applications will be reviewed. Potential grant applicants should read this section carefully in conjunction with the information provided above. The application must contain the required federal forms, title page, table of contents, and sections listed below. All pages of the narrative should be numbered.

The application should include the following elements:

1. Abstract: A one-page summary of the proposed project.

2. Goals and Objectives of the Project: An overview that describes (1) The project; (2) state-specific information needs and policy questions to be investigated; (3) proposed accomplishments; and (4) knowledge and information to be gained from the project by the applicant, policymakers, and the research community. Applications should include specific policy questions to be answered; particular items of interest on the list of proposed topics for a survey instrument; identified gaps (if any) in the included survey topics; and any additional information that would be helpful for the grantee to gather from the sample of TANF recipients (including any questions the additional survey data would help to answer and examples of specific survey questions if available). The application should also describe how the applicant views the importance of this study and how each applicant plans to use the information collected.

If the study builds on any current project, the applicant should describe how funding under this announcement will enhance, not substitute for, current state or local efforts. Applications from states and counties that received funding from ASPE previously are not precluded from submitting applications under this announcement; however, such applications will be graded only on the Evaluation Criteria listed below and will receive no preferential treatment during the award process.

3. Methodology and Design: Provide a description and justification of how the proposed research project will be implemented, including definition of study population, data collection activities, use of existing data sources, methodologies, and an analytic research plan. The research design must appropriately link policy questions, data sources, and analyses, and must employ technically sound and appropriate approaches, design elements and procedures. The research plan should:

(a) Describe in detail the methodology the applicant will use to extract a sample of TANF recipients in the sample month, including detailed information on plans for drawing a stratified sample if applicable. Sample sizes should be large enough to make statistically reliable within-group estimates and comparisons between planned subgroups.

(b) Identify and describe the methodology used to gather survey data including the sampling plan, the survey mode, and the steps that will be taken to address any biases inherent in each. These should include steps planned to ensure a high response rate, such as in-person follow up to locate those who are difficult to contact, and steps taken to analyze differences between respondents and non-respondents, such as comparisons based on administrative data.

(c) If applicant proposes to use administrative data, describe the methods used to clean, standardize and link case-level administrative data from different administrative sources (if applicable) as well as the methods used to match case records between TANF administrative data and survey data.

(d) identify the methodology to be used to analyze the data and organize their final report. Simple tabular analysis, descriptive statistics, and associated tests for statistical significance are appropriate. More complex data analysis is acceptable but not expected.

To the extent that the analysis uses data on individuals from multiple, separate sources, such as administrative databases from several state agencies, the application should discuss measures taken to maintain confidentiality, as well as demonstrate that the grantee has obtained authorized access to those data sources. The preferred form of proof is a signed interagency agreement with each of the relevant agencies/departments. Though not preferable, letters of support from the appropriate agencies are acceptable, provided that the letters clearly state that the proposing agency has the authorization to access and link all necessary data. Grant applicants must ensure that the collected data will only be used for management and research purposes, and that all identifying information will be kept completely confidential. Applicants should present the methods that will be used to ensure confidentiality of records and information once data are made publically available for research purposes.

4. Experience, Capacity, Qualifications, and Use of Staff: Briefly describe the grant applicant's organizational capabilities and experience in conducting pertinent research projects. The application should describe the applicant's experience in conducting relevant surveys (e.g., experience in locating respondents and in completing interviews with similar populations) or identify key subcontractors with such experience. For applicants proposing administrative data analysis, the application should detail the applicant's experience in linking administrative records across administrative sources and between administrative and survey data sources (as applicable), and in conducting research based on administrative data or identify key subcontractors with such experience.

If the grant applicant plans to contract for any of the work (e.g., survey administration or data-linking), applications should include relevant information on any similar procurement activities and on their experiences in providing oversight on similar data projects. In addition, if the contractors have not been retained, the applicant should describe the process by which they will be selected and the time line for this selection process. Identify the key staff who are expected to carry out the project and provide a resume or curriculum vitae for each person. Provide a discussion of how key staff will contribute to the success of the project, including the percentage of each staff member's time that will be devoted to the project. Finally, applicants should demonstrate access to computer hardware and software for storing and analyzing the data necessary to complete this project.

5. Work Plan: A work plan should be included which lists the start and end dates of the project, a time line that indicates the sequence of tasks necessary for the completion of the project, and the responsibilities of each of the key staff. In listing the sequence of tasks, the plan should provide sufficient detail to demonstrate the applicant has carefully thought through the necessary steps to complete the project. The plan should identify the total time commitments of key staff members in both absolute and percentage terms, including other projects and teaching or managerial responsibilities. Grantees should assume a survey instrument will be cleared by the Office of Management and Budget by March 2002 allowing for interviews to begin as early as April 2002. Due to the level of effort needed to conduct these survey data studies, grantees may want to consider work plans with time lines of seventeen months.

The work plan also should include plans for dissemination of the results of the study (e.g., articles in journals, presentations to state legislatures or at conferences) and plans for making resulting data files available to qualified researchers. As noted above, ASPE prefers that appropriately documented data files be placed at a controlled environment such as the Research Data Center of the National Center for Health Statistics or be edited as appropriate for confidentiality and issued as a public-use data file. If the grant applicant does not plan to provide a public-use file or to place the data at a controlled environment, the application should explain why and should fully articulate how the applicant will make the data available to qualified researchers.

6. Budget: Grant applicants must submit a request for federal funds using Standard Form 424A and include a detailed breakdown of all federal line items. A narrative explanation of the budget should be included that states clearly how the funds associated with this announcement will be used and describes the extent to which funds will be used for purposes that would not otherwise be incorporated within the project. The applicant should also document the level of funding from other sources and describe how these funds will be expended.

As noted above, applicants should budget for two trips to the Washington, D.C. area, for at least two members of the research team. The preparation and documentation of a public-use data file or other efforts to make the resulting data publically available should also be accounted for in the project budget.

Review Process and Funding Information

Applications will initially be screened for compliance with the timeliness and completeness requirements. Three (3) copies of each application are required. One of these copies must be in an unbound format, suitable for copying. If only one of the copies is the original (i.e., carries the original signature and is accompanied by a cover letter) it should not be this copy. Applicants are encouraged to send an additional two (2) copies to ease processing, but the application will not be penalized if these extra copies are not included. The grant applicant's Standard Form 424 must be signed by a representative of the applicant who is authorized to act with full authority on behalf of the applicant.

A federal review panel will review and score all applications submitted by the deadline date that meet the screening criteria (all information and documents as required by this announcement). The panel will use the evaluation criteria listed below to score each application. The panel results will be the primary element used by the Assistant Secretary for Planning and Evaluation when making funding decisions. The Department reserves the option to discuss applications with other federal or state staff, specialists, experts and the general public. Comments from these sources, along with those of the reviewers, will be kept from inappropriate disclosure and may be considered in making an award decision.

As a result of this competition, four to five grants of $200,000 to $250,000 each are expected to be made from funds appropriated for fiscal year 2001. Additional awards may be made depending on the policy relevance of applications received and the available funding, including funds that may become available in fiscal year 2002.

State Single Point of Contact

DHHS has determined that this program is not subject to Executive Order 12372, “Intergovernmental Review of Federal Programs.” Applicants are not required to seek intergovernmental review of their applications within the constraints of Executive Order 12372.

Deadline for Submission of Applications

The closing date for submission of applications under this announcement is June 18, 2001. Hand-delivered applications will be accepted Monday through Friday, excluding federal holidays, during the working hours of 9:00 a.m. to 4:30 p.m. in the lobby of the Hubert H. Humphrey building, located at 200 Independence Avenue, SW in Washington, D.C. When hand-delivering an application, call (202) 690-8794 from the lobby for pick up. A staff person will be available to receive applications.

An application will be considered as having met the deadline if it is either received at, or hand-delivered to, the mailing address on or before June 18, 2001, or postmarked before midnight three days prior to June 18, 2001, and received in time to be considered during the competitive review process (within two weeks of the deadline).

When mailing applications, applicants are strongly advised to obtain a legibly dated receipt from the U.S. Postal Service or from a commercial carrier (such as UPS, Federal Express, etc.) as proof of mailing by the deadline date. If there is a question as to when an application was mailed, applicants will be asked to provide proof of mailing by the deadline date. If proof cannot be provided, the application will not be considered for funding. Private metered postmarks will not be accepted as proof of timely mailing. Applications which do not meet the deadline will be considered late applications and will not be considered or reviewed in the current competition. DHHS will send a letter to this effect to each late applicant.

DHHS reserves the right to extend the deadline for all applications due to: (1) Natural disasters, such as floods, hurricanes, or earthquakes; (2) a widespread disruption of the mail; or, (3) if DHHS determines a deadline extension to be in the best interest of the federal government. The Department will not waive or extend the deadline for any applicant unless the deadline is waived or extended for all applicants.

Application Forms

Application instructions and forms should be requested from and submitted to: Adrienne Little, Grants Officer, Office of the Assistant Secretary for Planning and Evaluation, Department of Health and Human Services, Room 405F, Hubert H. Humphrey Building, 200 Independence Avenue, SW, Washington, DC 20201. Telephone: (202) 690-8794. Requests for forms and questions (administrative and technical) will be accepted and responded to up to ten (10) working days prior to closing date of receipt of applications.

Copies of this program announcement and all of the required forms may also be obtained electronically at the ASPE World Wide Web Page: http://aspe.hhs.gov. You may fax your request to the attention of the Grants Officer at (202) 690-6518. Grant applications may not be faxed or submitted electronically.

The printed Federal Register notice is the only official program announcement. Although reasonable efforts are taken to assure that the files on the ASPE World Wide Web Page containing electronic copies of this program announcement are accurate and complete, they are provided for information only. The applicant bears sole responsibility to assure that the copy downloaded and/or printed from any other source is accurate and complete.

Also see section entitled “Components of a Complete Application.” All of these documents must accompany the application package.

Length of Application

In no case shall an application for the ASPE grant (excluding the resumes, appendices and other appropriate attachments) be longer than thirty (30) single-spaced pages with 12 point font and one-inch margins on top, bottom, left, and right. Applications should not be unduly elaborate, but should fully communicate the applicant's proposed study to the reviewers.

Selection Process and Evaluation Criteria

Selection of successful applicants will be based on the technical and financial criteria described in this announcement. Reviewers will determine the strengths and weaknesses of each application in terms of the evaluation criteria listed below, provide comments, and assign numerical scores. The review panel will prepare a summary of all applicant scores, strengths and weaknesses, and recommendations and submit it to the Assistant Secretary for Planning and Evaluation for final decisions on the award.

The point value following each criterion heading indicates the maximum numerical weight that each section will be given in the review process. An unacceptable rating on any individual criterion may render the application unacceptable. Consequently, grant applicants should take care to ensure that all criteria are fully addressed in the applications. Grant applications will be reviewed as follows:

1. Goals, Objectives, and Potential Usefulness of the Analyses (25 points). The potential usefulness of the objectives and how the anticipated results of the proposed project will advance policy knowledge and development. If the proposed project builds on previous work, the application should explain how. Applications will be judged on the quality, policy relevance and adequate discussion of proposed questions to be addressed and proposed analyses, including subgroup analyses.

2. Quality and Soundness of Methodology and Design (30 points). The appropriateness, soundness, and cost-effectiveness of the methodology, including the research design, selection of existing data sets, definition of the study population, plans for survey administration, adequacy of sample sizes, statistical techniques, and analytical strategies.

Reviewers will evaluate the methodology proposed to gather survey data. In particular, reviewers will evaluate the sampling plan, the survey mode, and the steps that will be taken to address any biases inherent in each. This will include evaluating steps planned to ensure a high response rate, such as in-person follow up to locate those who are difficult to contact, and steps planned to analyze differences between respondents and non-respondents, such as comparisons based on administrative data.

For planned administrative data analysis, a critical scoring element will be the applicant's discussion of the methods used to clean, standardize, and link the individual-level or case-level data from different sources, including links between administrative data and survey data.

Reviewers also will evaluate the proposed data analysis, the planned organization of the applicant's final report, and the applicant's discussion of how different data sources (e.g., data from administrative sources, survey data collection, other research if applicable) will be synthesized to enhance the proposed analyses.

3. Qualifications of Personnel and Organizational Capability (20 points). The qualifications of the project personnel for conducting the proposed research as evidenced by professional training and experience, and the capacity of the organization to provide the infrastructure and support necessary for the project. Reviewers will evaluate the principal investigator and staff on research experience and demonstrated research skills.

Applications will be evaluated in terms of the applicant's or subcontractor's experience in conducting relevant surveys, including experience in securing high response rates from welfare recipients or other low-income populations. Applications that involve linking of administrative data and assembling of large databases will be scored on the applicant's or subcontractor's experience with such linking efforts. If the applicant plans to contract for any of the work (e.g., data-linking or survey administration), applicants will be evaluated on any relevant procurement activities and on their experiences in providing oversight on similar data projects. In addition, if the contractors have not been retained, reviewers will consider the process by which they will be selected and the time frame for this selection.

Reviewers may consider references for work completed on prior research projects. Principal investigator and staff time commitments also will be a factor in the evaluation. Reviewers will rate the applicant's pledge and ability to work in collaboration with other scholars or organizations in search of similar goals. Reviewers also will evaluate the applicant's demonstrated capacity to work with a range of government agencies.

4. Ability of the Work Plan and Budget to Successfully Achieve the Project's Objectives (20 points). Reviewers will examine: (a) Whether the work plan and budget are reasonable and sufficient to ensure timely implementation and completion of the study; (b) whether the application demonstrates an adequate level of understanding by the applicant of the practical problems of conducting such a project; (c) the use of any additional funding and the role that ASPE funds will play in the total project; and (d) whether the applicant has shown how results will be disseminated.

The applicant should also discuss in detail how resulting data will be made available to qualified researchers. As noted above, ASPE prefers that appropriately documented data files be placed at a controlled environment such as the Research Data Center of the National Center for Health Statistics or be edited as appropriate for confidentiality and issued as a public-use data file. If the grant applicant does not plan to provide a public-use file or to place the data at a controlled environment, the application should explain why and should fully articulate how the applicant will make the data available to qualified researchers.

5. Ability to Sustain Project After Funding (5 points). One of ASPE's goals is to help states and large counties build their capacity to study the outcomes of welfare reform. Grant applicants should identify an ability to continue their studies after the funding period closes. To this end, reviewers will consider whether the application adequately addresses questions such as the following: To what extent could the survey administered and the administrative data linkages performed on the cohort under study be duplicated for later cohorts? To what extent could additional survey data or data linkages be collected/performed to follow the initial cohort for additional years? What agency(ies) will have responsibility for and jurisdiction over the resulting data sets after the project is completed? Are there any sources of financial and staff support for maintaining the database?

Disposition of Applications

1. Approval, Disapproval, or Deferral. On the basis of the review of the application, the Assistant Secretary will either (a) approve the application as a whole or in part; (b) disapprove the application; or (c) defer action on the application for such reasons as lack of funds or a need for further review.

2. Notification of Disposition. The Assistant Secretary for Planning and Evaluation will notify the applicants of the disposition of their applications. If approved, a signed notification of the award will be sent to the business office named in the ASPE checklist.

3. The Assistant Secretary's Discretion. Nothing in this announcement should be construed as to obligate the Assistant Secretary for Planning and Evaluation to make any awards whatsoever. Awards and the distribution of awards among priority areas are contingent on the needs of the Department at any point in time and the quality of the applications that are received.

The Catalog of Federal Domestic Assistance number is 93-239.

Components of a Complete Application

A complete application consists of the following items in this order:

1. Application for Federal Assistance (Standard Form 424);

2. Budget Information—Non-Construction Programs (Standard Form 424A);

3. Assurances—Non-Construction Programs (Standard Form 424B);

4. Table of Contents;

5. Budget Justification for Section B Budget Categories;

6. Copy of the applicant's Approved Indirect Cost Rate Agreement, if applicable;

7. Project Narrative Statement, organized in five sections, addressing the following topics (limited to thirty (30) single-spaced pages):

(a) Abstract,

(b) Goals, Objectives and Usefulness of the Project,

(c) Methodology and Design,

(d) Background of the Personnel and Organizational Capabilities and

(e) Work Plan (timetable);

8. Any appendices or attachments;

9. Certification Regarding Drug-Free Workplace;

10. Certification Regarding Debarment, Suspension, or other Responsibility Matters;

11. Certification and, if necessary, Disclosure Regarding Lobbying;

12. Supplement to Section II—Key Personnel;

13. Application for Federal Assistance Checklist.

Dated: April 26, 2001.
William F. Raub,
Acting Assistant Secretary for Planning and Evaluation.

[FR Doc. 01-11301 Filed 5-3-01; 8:45 am]

BILLING CODE 4154-05-U